U.S. AGENCY FOR INTERNATIONAL DEVELOPMENT

Board for International Food and Agricultural Development; Notice of Meeting

Pursuant to the Federal Advisory Committee Act, notice is hereby given of the public meeting of the Board for International Food and Agricultural Development (BIFAD). The meeting will be held from 9 a.m. to 1 p.m. on June 24, 2011 at the National Press Club located at 529 14th St., NW., Washington, DC. “The Role of Higher Education in the Feed the Future Initiative” will be the central theme of the meeting.

Dr. Brady Deaton, the new Chair of BIFAD, will preside over the proceedings. Dr. Deaton is the Chancellor of the University of Missouri at Columbia.

The announcement of the 2011 World Food Prize Laureate at the State Department on June 21 and the “Feed the Future” Research Forum from June 21 to 23 provide the backdrop for the BIFAD public meeting on June 24. The meeting will include the participation of five new BIFAD presidential appointments. Including Dr. Deaton, those new members are Jo Luck, President of Heifer International, Marty McVey of McVey & Company Investments Inc., Gebisa Ejeta, Distinguished Professor, Department of Agronomy, Purdue University and Catherine Bertini, Chair, International Relations Program and Professor, Maxwell School of Citizenship and Public Affairs, Syracuse University. Board members with continuing service include Elsa Murano, Professor and President Emerita of Texas A&M University and William DeLauder, President Emeritus of Delaware State University. After opening remarks by Dr. Deaton, USAID Administrator Rajiv Shah will formally swear in the new Board members and make a short presentation. At the conclusion of Dr. Shah's remarks, Dr. Deaton will acknowledge immediate past Chair Robert Easter and the other outgoing Board members for their service.

The BIFAD Spring public meeting will focus heavily on the USAID Feed the Future (FtF) Initiative. The first session will offer USAID and USDA perspectives on progress to date, taking into account specifically Title XII university perspectives. The panel of speakers will include Paul Weisenfeld, Assistant to the Administrator of the Bureau for Food Security; Julie Howard, Deputy Coordinator of the Feed the Future Initiative, and a USDA representative. Deanna Behring, Director of International Agriculture Programs at Penn State University will serve as respondent and provide university perspectives.

The second FtF session will review outcomes of the Association of Public and Land-grant Universities (APLU)-led consultative process in response to the FTF research strategy. Dr. Montague Demment, Professor of Ecology at University of California-Davis and Associate Vice President for International Development of APLU, will provide an overview of the consultative process for the Board. USAID staff will provide an overview of the research priority outcomes. Because the Collaborative Research Support Programs (CRSPs) are among the major Title XII university-based research programs, a member of the CRSP Council will serve as a respondent to address additional issues.

The Board meeting is open to the public, and time will be allotted for a public comment period. The Board benefits greatly in hearing from the stakeholder community and others. To ensure that as many people as possible have the opportunity to contribute to the morning's discussions, comments will be restricted to 3 minutes for each commenter. At the conclusion of the public comment period, the Board will adjourn the meeting to proceed to a luncheon and executive meeting (closed to the public).

Those wishing to attend the meeting or obtain additional information about BIFAD should contact Susan Owens, Executive Director and Designated Federal Officer for BIFAD. Interested persons may write her in care of the U.S. Agency for International Development, Ronald Reagan Building, Bureau for Food Security, 1300 Pennsylvania Avenue, NW., Room 7.8-061, Washington, DC 20523-2110 or telephone her at (202) 712-0218 or fax (202) 216-3124.

Susan J. Owens,
Executive Director and USAID Designated Federal Officer for BIFAD, Office of Development Partners, U.S. Agency for International Development.

[FR Doc. 2011-14245 Filed 6-8-11; 8:45 am]

BILLING CODE 6116-01-P